SMALL BUSINESS ADMINISTRATION

[Declaration of Disaster #3482]

State of Kentucky

As a result of the President's major disaster declaration on March 14, 2003, I find that Breathitt, Carter, Clarke, Fayette, Floyd, Greenup, Johnson, Knott, Leslie, Letcher, Lewis, Martin, Owsley, Perry and Pike Counties in the State of Kentucky constitute a disaster area due to damages caused by severe winter ice and snow storms, heavy rain, flooding, tornadoes, and mud and rock slides occurring on February 15 through February 26, 2003. Applications for loans for physical damage as a result of this disaster may be filed until the close of business on May 13, 2003, and for economic injury until the close of business on December 15, 2003, at the address listed below or other locally announced locations: U.S. Small Business Administration, Disaster Area 2 Office, One Baltimore Place, Suite 300, Atlanta, GA 30308.

In addition, applications for economic injury loans from small businesses located in the following contiguous counties may be filed until the specified date at the above location: Bell, Bourbon, Boyd, Clay, Elliott, Estill, Fleming, Harlan, Jackson, Jessamine, Lawrence, Lee, Madison, Magoffin, Mason, Menifee, Montgomery, Morgan, Powell, Rowan, Scott, Wolfe and Woodford in the State of Kentucky; Adams, Lawrence and Scioto counties in the State of Ohio; Buchanan, Dickenson and Wise counties in the Commonwealth of Virginia; and Mingo and Wayne counties in the State of West Virginia.

The interest rates are:

For Physical Damage

Homeowners with credit available elsewhere: 5.875%

Homeowners without credit available elsewhere: 2.937%

Businesses with credit available elsewhere: 6.378%

Businesses and non-profit organizations without credit available elsewhere: 3.189%

Others (including non-profit organizations) with credit available elsewhere: 5.500%

For Economic Injury

Businesses and small agricultural cooperatives without credit available elsewhere: 3.189%

The number assigned to this disaster for physical damage is 348211. For economic injury the number is 9U4800 for Kentucky; 9U4900 for Ohio; 9U5000 for Virginia; and 9U5100 for West Virginia.

(Catalog of Federal Domestic Assistance Program Nos. 59002 and 59008).
Dated: March 14, 2003.
Allan I. Hoberman,
Acting Associate Administrator for Disaster Assistance.

[FR Doc. 03-6766 Filed 3-20-03; 8:45 am]

BILLING CODE 8025-01-P